FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than March 14, 2012.

A. Federal Reserve Bank of Chicago (Colette A. Fried, Assistant Vice President) 230 South LaSalle Street, Chicago, Illinois 60690-1414:

1. Perry Hodgson, Alexander Hodgson, and Raymond Hodgson, all of Charlevoix, Michigan; to join the existing Hodgson control group and to retain and acquire voting shares of Charlevoix First Corporation, and indirectly retain and acquire voting shares of Charlevoix State Bank, Charlevoix, Michigan.

Board of Governors of the Federal Reserve System, February 23, 2012.
Robert deV. Frierson,
Deputy Secretary of the Board.

[FR Doc. 2012-4616 Filed 2-27-12; 8:45 am]

BILLING CODE 6210-01-P